DEPARTMENT OF COMMERCE

International Trade Administration

Notice of Scope Rulings

AGENCY: Enforcement and Compliance, International Trade Administration, Department of Commerce.

SUMMARY: The Department of Commerce (Commerce) hereby publishes a list of scope rulings and anti-circumvention determinations made during the period October 1, 2020-December 31, 2020. We intend to publish future lists after the close of the next calendar quarter.

DATES: Applicable March 4, 2021.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on December 2, 2020.² This current notice covers all scope rulings and anti-circumvention determinations made by Enforcement and Compliance from October 1, 2020 through December 31, 2020.

¹ See 19 CFR 351.225(o).

² See Notice of Scope Rulings, 85 FR 77494 (December 2, 2020).

Scope Rulings Made October 1, 2020 Through December 31, 2020

People's Republic of China (China)

A-570-092: Mattresses From China

Requestor: Excelligence Learning Corporation. The compact crib mattress is not covered by the scope of the antidumping duty (AD) order on mattresses from China because it does not meet the scope's dimensional requirements for length or width to be considered a youth mattress; October 1, 2020.

A-570-112 and C-570-113: Certain Collated Steel Staples From China

Requestor: Sailrite Enterprises, Inc. Sailrite's 80-Series collated stainless steel and galvanized steel staples are outside of the scope of the AD and countervailing duty (CVD) orders because they have a nominal diameter of 0.028 inches, which falls outside the 0.0355 and 0.0830 inch scope specified in the scope of the orders; October 14, 2020.

A-570-899: Certain Artist Canvas From China

Requestor: Permalite, Inc. (Permalite). Permalite's inkjet printable canvas is outside the scope of the AD order on certain artist canvas from China because the priming/coating of the raw woven polyester cloth occurs in Thailand; October 21, 2020.

A-570-979 and C-570-980: Crystalline Silicon Photovoltaic Cells From China

Requestor: SunSpark Technology Inc. Solar cells and panels/modules produced in Vietnam from raw wafers imported from China (i.e., wafers that do not yet have a p/n junction) are not within the scope of the AD and CVD orders on solar cells from China; October 23, 2020.

A-570-042 and C-570-043: Stainless Steel Sheet and Strip From China

Requestor: Concept2, Inc. Flywheel Housing Perforated Screens (FHPS), imported by Concept2 Inc., are not covered by the scope of the AD and CVD orders on stainless steel sheet and strip from China based on the totality of our analysis of the plain language of the scope and the criteria set forth under 19 CFR 351.225(k)(1) and (2); November 24, 2020.

A-570-952 and C-570-953: Narrow Woven Ribbons From China

Requestor: Spin Master, Inc. The woven polyester ribbons contained within “Cool Maker Hollywood Hair Studio” role play kit and the “Cool Maker Hollywood Hair Studio Refill Pack” imported by Spin Master, Inc. are within the scope of the AD and CVD orders on narrow woven ribbons with woven selvedge from China; December 8, 2020.

A-570-916 and C-570-917: Laminated Woven Sacks From China

Requestor: HL Packaging Group Inc. Two models of reusable shopping bags imported by HL Packaging Group Inc. are covered by the scope of the AD and CVD orders on laminated woven sacks from China because they meet the physical description identified in the scope; December 23, 2020.

Notification to Interested Parties

Interested parties are invited to comment on the completeness of this list of completed scope inquiries and anti-circumvention determinations made during the period October 1, 2020, through December 31, 2020. Contact information for the submission of such comment is provided above. This notice is published in accordance with 19 CFR 351.225(o).

Dated: February 26, 2021.
James Maeder,
Deputy Assistant Secretary for Antidumping and Countervailing Duty Operations.

[FR Doc. 2021-04478 Filed 3-3-21; 8:45 am]

BILLING CODE 3510-DS-P